DEPARTMENT OF JUSTICE

Antitrust Division

Notice Pursuant to the National Cooperative Research and Production Act of 1993—The Advanced Access Content System Founders (“AACS”)

Notice is hereby given that, on July 12, 2004, pursuant to Section 6(a) of the National Cooperative Research and Production Act of 1993, 15 U.S.C. 4301 et seq. (“the Act”), The Advanced Access Content System Founders (“AACS”) has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Intel Corporation, Santa Clara, CA; Intel G.F. Inc., Santa Clara, CA; International Business Machines Corporation, Armonk, NY; Matsushita Electric Industrial Co., Ltd., Osaka, Japan; Matsushita Intellectual Property Corporation of America, Wilmington, DE; Microsoft Corporation, Redmond, WA; Sony Corporation, Tokyo, Japan; SCA IPLA Holdings, Inc., New York, NY; Toshiba Corporation, Tokyo, Japan; Toshiba America Information Systems, Inc., Irvine, CA; The Walt Disney Company, Burbank, CA; Disney Worldwide Services, Burbank, CA; Warner Brothers Technical Operations, Inc., Burbank, CA; and Warner Brothers Entertainment Inc., Burbank, CA. The nature and objectives of the venture are to develop, license and promote technology to facilitate the distribution, use and sale of next-generation digital content by offering a means to prevent unauthorized interception, copying and redistribution of the content. This technology includes but it not limited to methods for data encryption, encryption key management, encryption system renewability, electronic commerce and forensic tracing (“the Technology”). The group anticipates that this content will be valuable commercial content protected by copyrights. Through a limited liability corporation to be formed by the Founders or their affiliates, they will promote the Technology to facilitate broad adoption and enable new lines of business in affected industries.

Dorothy Fountain,
Deputy Director of Operations, Antitrust Division.

[FR Doc. 04-19364 Filed 8-23-04; 8:45 am]

BILLING CODE 4410-11-M